DEPARTMENT OF THE INTERIOR

Bureau of Land Management

[NV-056-5853-ES; N-84739; 8-08807; TAS:14X5232]

Notice of Realty Action: Lease/Conveyance for Recreation and Public Purposes of Public Lands in Clark County, NV

AGENCY: Bureau of Land Management, Interior.

ACTION: Notice.

SUMMARY: The Bureau of Land Management (BLM) has received a request for lease and subsequent conveyance of approximately 19.375 acres of public land in the City of Las Vegas, Clark County, Nevada, under the Recreation and Public Purposes (R&PP) Act. The Regional Transportation Commission of Southern Nevada (RTC) proposes to use the land for a public Park and Ride bus facility.

DATES: Interested parties may submit written comments regarding the proposed lease/conveyance of the lands until November 17, 2008.

ADDRESSES: Mail written comments to the BLM Field Manager, Las Vegas Field Office, 4701 N. Torrey Pines Drive, Las Vegas, NV 89130-2301.

FOR FURTHER INFORMATION CONTACT: Kimber Liebhauser, (702) 515-5088.

SUPPLEMENTARY INFORMATION: The following described land in Clark County, Nevada, has been examined and found suitable for lease and subsequent conveyance under the provisions of the R&PP Act, as amended (43 U.S.C. 869 et seq.). The parcel of land is located north of Elkhorn Road, between North Durango Drive and the U.S. Highway 95 and is legally described as:

Mount Diablo Meridian, Nevada

T. 19 S., R. 60 E.,

Sec. 17, a portion of Government Lot 19 (NE¼SW¼SE¼, E½SE¼SW¼SE¼, SE¼NE¼NW¼SW¼SE¼, E½SE¼NW¼SW¼SE¼, N½NW¼NW¼SW¼SE¼, N½NE¼NW¼SW¼SE¼).

The area described contains 19.375 acres, more or less.

This description will be replaced by additional lot designation on final approval of the official plat of survey.

In accordance with the R&PP Act, the RTC has filed an application to develop the described land as a public Park and Ride facility with related facilities to meet the growing travel demands between the northwest part of the Las Vegas valley and the resort corridor. Related facilities include a terminal building with a waiting area, restrooms and utility/storage rooms as well as a separate paved parking area for the RTC and the public, bus bays with canopies, landscaping and off-site street improvements. There is a current R&PP lease authorized to the City of Las Vegas as N-61839 for a public park which occupies the space of the N-84739 application. The existing lease is undergoing a partial relinquishment to accommodate the Park and Ride lease application. Additional detailed information pertaining to this application, plan of development, and site plan is in case file N-84739, which is located in the BLM Las Vegas Field Office.

The RTC is a political subdivision of the State of Nevada and is therefore a qualified applicant under the R&PP Act. The land is not required for any Federal purpose. The lease/conveyance is consistent with the BLM Las Vegas Resource Management Plan, dated October 5, 1998, and would be in the public interest. The lease/conveyance, when issued, will be subject to the provisions of the R&PP Act and applicable regulations of the Secretary of the Interior, and will contain the following reservations to the United States:

1. A right-of-way thereon for ditches or canals constructed by the authority of the United States, Act of August 30, 1890 (43 U.S.C. 945);

2. All minerals shall be reserved to the United States, together with the right to prospect for, mine and remove such deposits from the same under applicable law and such regulations as the Secretary of the Interior may prescribe; and

3. A right-of-way for a Federal-Aid Highway reserved to the Federal Highway Administration, its successors and assigns, by right-of-way N-46063, pursuant to the Act of August 27, 1958, 072 Stat. 0916, 23 U.S.C. 317(A).

The lease/conveyance will be subject to:

1. Valid existing rights;

2. A right-of-way for overhead distribution lines and telephone lines granted to Nevada Power Company, its successors and assigns, by right-of-way N-58721, pursuant to the Act of October 21, 1976, 090 Stat. 2776, 43 U.S.C. 1761;

3. A right-of-way for a 42-inch diameter water pipeline granted to Las Vegas Valley Water District, its successors and assigns, by right-of-way N-61329, pursuant to the Act of October 21, 1976, 090 Stat. 2776, 43 U.S.C. 1761;

4. A right-of-way for fiber optic facilities granted to Nevada Bell, its successors or assigns, by right-of-way N-73706, pursuant to the Act of October 21, 1976, 090 Stat. 2776, 43 U.S.C. 1761;

5. A right-of-way for underground telephone facilities granted to Central Telephone Company, its successors and assigns, by right-of-way N-73808, pursuant to the Act of October 21, 1976, 090 Stat. 2776, 43 U.S.C. 1761;

6. A right-of-way for underground distribution lines granted to Nevada Power Company, its successors and assigns, by right-of-way N-73826, pursuant to the Act of October 21, 1976, 090 Stat. 2776, 43 U.S.C. 1761;

7. A right-of-way for road, sewer and drainage purposes granted to the City of Las Vegas, its successors and assigns, by right-of-way N-73902, pursuant to the Act of October 21, 1976, 090 Stat. 2776, 43 U.S.C. 1761;

8. A right-of-way for fiber optic facilities granted to Cox Communications, its successors or assigns, by right-of-way N-74001, pursuant to the Act of October 21, 1976, 090 Stat. 2776, 43 U.S.C. 1761;

9. A right-of-way for underground electrical distribution lines granted to Nevada Power Company, its successors or assigns, by right-of-way N-75274, pursuant to the Act of October 21, 1976, 090 Stat. 2776, 43 U.S.C. 1761;

10. A right-of-way for underground conduits and cables granted to Nevada Power Company, its successors or assigns, by right-of-way N-75820, pursuant to the Act of October 21, 1976, 090 Stat. 2776, 43 U.S.C. 1761;

11. A right-of-way for a polyethylene natural gas pipeline granted to Southwest Gas Corporation, its successors or assigns, by right-of-way N-79227, pursuant to the Act of February 25, 1920, 041 Stat. 0437, 30 U.S.C. 185, Sec. 28;

12. A right-of-way for underground distribution lines granted to Nevada Power Company, its successors or assigns, by right-of-way N-79387, pursuant to the Act of October 21, 1976, 090 Stat. 2776, 43 U.S.C. 1761;

13. A right-of-way for underground electrical distribution lines granted to Nevada Power Company, its successors or assigns, by right-of-way N-81383, pursuant to the Act of October 21, 1976, 090 Stat. 2776, 43 U.S.C. 1761; and

14. A right-of-way for a temporary work area granted to Nevada Power Company, its successors or assigns, by right-of-way N-81383-01, pursuant to the Act of October 21, 1976, 090 Stat. 2776, 43 U.S.C. 1761.

On publication of this notice in the Federal Register, the land described will be segregated from all other forms of appropriation under the public land laws, including the general mining laws, except for lease/conveyance under the R&PP Act, leasing under the mineral leasing laws and disposals under the mineral material disposal laws.

Interested parties may submit written comments regarding the specific use proposed in the application and plan of development, whether BLM followed proper administrative procedures in reaching the decision to lease/convey under the R&PP Act, or any other factor not directly related to the suitability of the land for R&PP use. Any adverse comments will be reviewed by the BLM Nevada State Director, who may sustain, vacate, or modify this realty action. In the absence of any adverse comments, this realty action will become the final determination of the Department of the Interior.

Before including your address, phone number, e-mail address, or other personal identifying information in your comment, you should be aware that your entire comment—including your personal identifying information—may be made publicly available at any time. While you can ask us in your comment to withhold your personal identifying information from public review, we cannot guarantee that we will be able to do so. Only written comments submitted by postal service or overnight mail to the Field Manager, BLM Las Vegas Field Office, will be considered properly filed. Electronic mail, facsimile, or telephone comments will not be considered properly filed.

In the absence of any adverse comments, the decision will become effective on December 1, 2008. The lands will not be available for lease/conveyance until after the decision becomes effective.

Authority: 43 CFR 2741.5.

Dated: September 16, 2008.
Kimber Liebhauser,
Acting Assistant Field Manager, Division of Lands, Las Vegas, Nevada.

[FR Doc. E8-23129 Filed 9-30-08; 8:45 am]

BILLING CODE 4310-HC-P